NUCLEAR REGULATORY COMMISSION

[Docket No. 72-26-ISFSI-MLR; ASLBP No. 23-979-01-ISFSI-MLR-BD01]

Pacific Gas and Electric Company; Establishment of Atomic Safety and Licensing Board

Pursuant to the Commission's regulations, see, e.g., 10 CFR 2.104, 2.105, 2.300, 2.309, 2.313, 2.318, 2.321, notice is hereby given that an Atomic Safety and Licensing Board (Board) is being established to preside over the following proceeding:

Pacific Gas and Electric Company (Diablo Canyon Independent Spent Fuel Storage Installation)

This proceeding involves an application to authorize Pacific Gas and Electric Company to continue to store spent fuel in the Diablo Canyon Independent Spent Fuel Storage Installation for an additional 40 years beyond the current license expiration date of March 22, 2024. In response to a notice published in the Federal Register announcing the opportunity to request a hearing, see 88 FR 1431 (Jan. 10, 2023), a hearing request on behalf of San Luis Obispo Mothers for Peace was submitted by email on March 13, 2023, and again through E-Filing on March 14, 2023.

The Board is comprised of the following Administrative Judges:

E. Roy Hawkens, Chairman, Atomic Safety and Licensing Board Panel, U.S. Nuclear Regulatory Commission, Washington, DC 20555-0001

Nicholas G. Trikouros, Atomic Safety and Licensing Board Panel, U.S. Nuclear Regulatory Commission, Washington, DC 20555-0001

Dr. Gary S. Arnold, Atomic Safety and Licensing Board Panel, U.S. Nuclear Regulatory Commission, Washington, DC 20555-0001

All correspondence, documents, and other materials shall be filed in accordance with the NRC E-Filing rule. See 10 CFR 2.302.

Rockville, Maryland.
Dated: March 20, 2023.
Paul S. Ryerson,
Associate Chief Administrative Judge, Atomic Safety and Licensing Board Panel.

[FR Doc. 2023-06077 Filed 3-23-23; 8:45 am]

BILLING CODE 7590-01-P